POSTAL REGULATORY COMMISSION

[Docket Nos. MC2025-937 and K2025-938; MC2025-938 and K2025-939; MC2025-939 and K2025-940; MC2025-941 and K2025-942; MC2025-959 and K2025-958; MC2025-960 and K2025-959; MC2025-961 and K2025-960; MC2025-962 and K2025-961; MC2025-963 and K2025-962; MC2025-964 and K2025-963; MC2025-965 and K2025-964; MC2025-966 and K2025-965; MC2025-967 and K2025-966; MC2025-968 and K2025-967; MC2025-969 and K2025-968; MC2025-970 and K2025-969; MC2025-971 and K2025-970; MC2025-972 and K2025-971; MC2025-973 and K2025-972; MC2025-974 and K2025-973; MC2025-975 and K2025-974; MC2025-976 and K2025-975; MC2025-977 and K2025-976; MC2025-978 and K2025-977; MC2025-979 and K2025-978; MC2025-980 and K2025-979; MC2025-981 and K2025-980; MC2025-982 and K2025-981; MC2025-983 and K2025-982; MC2025-984 and K2025-983; MC2025-985 and K2025-984; MC2025-986 and K2025-985; MC2025-987 and K2025-986; MC2025-988 and K2025-987; MC2025-989 and K2025-988; MC2025-990 and K2025-989]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: January 2, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-937 and K2025-938; Filing Title: USPS Request to Add Priority Mail Express, Priority Mail & USPS Ground Advantage Contract 1152 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

2. Docket No(s).: MC2025-938 and K2025-939; Filing Title: USPS Request to Add Priority Mail Express, Priority Mail & USPS Ground Advantage Contract 1153 to the Competitive Product List and Notice of Filing Materials Under Seal; Filing Acceptance Date: December 20, 2024; Filing Authority: 39 U.S.C. 3642, 39 CFR 3035.105, and 39 CFR 3041.310; Public Representative: Katalin Clendenin; Comments Due: January 2, 2025.

3. Docket No(s).: MC2025-939 and K2025-940; Filing Title: USPS Request to Add Priority Mail Express, Priority Mail & USPS Ground Advantage Contract 1154 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

4. Docket No(s).: MC2025-941 and K2025-942; Filing Title: USPS Request to Add Priority Mail Express, Priority Mail & USPS Ground Advantage Contract 1156 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

5. Docket No(s).: MC2025-959 and K2025-958; Filing Title: USPS Request to Add Priority Mail Express, Priority Mail & USPS Ground Advantage Contract 1171 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

6. Docket No(s).: MC2025-960 and K2025-959; Filing Title: USPS Request to Add Priority Mail Express, Priority Mail & USPS Ground Advantage Contract 1172 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

7. Docket No(s).: MC2025-961 and K2025-960; Filing Title: USPS Request to Add Priority Mail Express, Priority Mail & USPS Ground Advantage Contract 1173 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

8. Docket No(s).: MC2025-962 and K2025-961; Filing Title: USPS Request to Add Priority Mail Express, Priority Mail & USPS Ground Advantage Contract 1174 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

9. Docket No(s).: MC2025-963 and K2025-962; Filing Title: USPS Request to Add Priority Mail Express, Priority Mail & USPS Ground Advantage Contract 1175 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

10. Docket No(s).: MC2025-964 and K2025-963; Filing Title: USPS Request to Add Priority Mail Express, Priority Mail & USPS Ground Advantage Contract 1176 to the Competitive Product List and Notice of Filing Materials Under Seal; Filing Acceptance Date: December 20, 2024; Filing Authority: 39 U.S.C. 3642, 39 CFR 3035.105, and 39 CFR 3041.310; Public Representative: Katalin Clendenin; Comments Due: January 2, 2025.

11. Docket No(s).: MC2025-965 and K2025-964; Filing Title: USPS Request to Add Priority Mail Express, Priority Mail & USPS Ground Advantage Contract 1177 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

12. Docket No(s).: MC2025-966 and K2025-965; Filing Title: USPS Request to Add Priority Mail Express, Priority Mail & USPS Ground Advantage Contract 1178 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

13. Docket No(s).: MC2025-967 and K2025-966; Filing Title: USPS Request to Add Priority Mail Express, Priority Mail & USPS Ground Advantage Contract 1179 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

14. Docket No(s).: MC2025-968 and K2025-967; Filing Title: USPS Request to Add Priority Mail Express, Priority Mail & USPS Ground Advantage Contract 1180 to the Competitive Product List and Notice of Filing Materials Under Seal; Filing Acceptance Date: December 20, 2024; Filing Authority: 39 U.S.C. 3642, 39 CFR 3035.105, and 39 CFR 3041.310; Public Representative: Jennaca Upperman; Comments Due: January 2, 2025.

15. Docket No(s).: MC2025-969 and K2025-968; Filing Title: USPS Request to Add Priority Mail Express, Priority Mail & USPS Ground Advantage Contract 1181 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

16. Docket No(s).: MC2025-970 and K2025-969; Filing Title: USPS Request to Add Priority Mail & USPS Ground Advantage Contract 561 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

17. Docket No(s).: MC2025-971 and K2025-970; Filing Title: USPS Request to Add Priority Mail & USPS Ground Advantage Contract 562 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

18. Docket No(s).: MC2025-972 and K2025-971; Filing Title: USPS Request to Add Priority Mail & USPS Ground Advantage Contract 563 to the Competitive Product List and Notice of Filing Materials Under Seal; Filing Acceptance Date: December 20, 2024; Filing Authority: 39 U.S.C. 3642, 39 CFR 3035.105, and 39 CFR 3041.310; Public Representative: Katalin Clendenin; Comments Due: January 2, 2025.

19. Docket No(s).: MC2025-973 and K2025-972; Filing Title: USPS Request to Add Priority Mail & USPS Ground Advantage Contract 564 to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

20. Docket No(s).: MC2025-974 and K2025-973; Filing Title: USPS Request to Add Priority Mail & USPS Ground Advantage Contract 565 to the Competitive Product List and Notice of Filing Materials Under Seal; Filing Acceptance Date: December 20, 2024; Filing Authority: 39 U.S.C. 3642, 39 CFR 3035.105, and 39 CFR 3041.310; Public Representative: Katalin Clendenin; Comments Due: January 2, 2025.

21. Docket No(s).: MC2025-975 and K2025-974; Filing Title: USPS Request to Add Priority Mail & USPS Ground Advantage Contract 566 to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

22. Docket No(s).: MC2025-976 and K2025-975; Filing Title: USPS Request to Add Priority Mail & USPS Ground Advantage Contract 567 to the Competitive Product List and Notice of Filing Materials Under Seal; Filing Acceptance Date: December 20, 2024; Filing Authority: 39 U.S.C. 3642, 39 CFR 3035.105, and 39 CFR 3041.310; Public Representative: Katalin Clendenin; Comments Due: January 2, 2025.

23. Docket No(s).: MC2025-977 and K2025-976; Filing Title: USPS Request to Add Priority Mail Express, Priority Mail & USPS Ground Advantage Contract 1182 to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

24. Docket No(s).: MC2025-978 and K2025-977; Filing Title: USPS Request to Add Priority Mail Express, Priority Mail & USPS Ground Advantage Contract 1183 to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

25. Docket No(s).: MC2025-979 and K2025-978; Filing Title: USPS Request to Add Priority Mail Express, Priority Mail & USPS Ground Advantage Contract 1184 to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

26. Docket No(s).: MC2025-980 and K2025-979; Filing Title: USPS Request to Add Priority Mail Express, Priority Mail & USPS Ground Advantage Contract 1185 to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

27. Docket No(s).: MC2025-981 and K2025-980; Filing Title: USPS Request to Add Priority Mail Express, Priority Mail & USPS Ground Advantage Contract 1186 to the Competitive Product List and Notice of Filing Materials Under Seal; Filing Acceptance Date: December 20, 2024; Filing Authority: 39 U.S.C. 3642, 39 CFR 3035.105, and 39 CFR 3041.310; Public Representative: Katalin Clendenin; Comments Due: January 2, 2025.

28. Docket No(s).: MC2025-982 and K2025-981; Filing Title: USPS Request to Add Priority Mail Express, Priority Mail & USPS Ground Advantage Contract 1187 to the Competitive Product List and Notice of Filing Materials Under Seal; Filing Acceptance Date: December 20, 2024; Filing Authority: 39 U.S.C. 3642, 39 CFR 3035.105, and 39 CFR 3041.310; Public Representative: Christopher Mohr; Comments Due: January 2, 2025.

29. Docket No(s).: MC2025-983 and K2025-982; Filing Title: USPS Request to Add Priority Mail Express, Priority Mail & USPS Ground Advantage Contract 1188 to the Competitive Product List and Notice of Filing Materials Under Seal; Filing Acceptance Date: December 20, 2024; Filing Authority: 39 U.S.C. 3642, 39 CFR 3035.105, and 39 CFR 3041.310; Public Representative: Christopher Mohr; Comments Due: January 2, 2025.

30. Docket No(s).: MC2025-984 and K2025-983; Filing Title: USPS Request to Add Priority Mail Express, Priority Mail & USPS Ground Advantage Contract 1189 to the Competitive Product List and Notice of Filing Materials Under Seal; Filing Acceptance Date: December 20, 2024; Filing Authority: 39 U.S.C. 3642, 39 CFR 3035.105, and 39 CFR 3041.310; Public Representative: Christopher Mohr; Comments Due: January 2, 2025.

31. Docket No(s).: MC2025-985 and K2025-984; Filing Title: USPS Request to Add Priority Mail Express, Priority Mail & USPS Ground Advantage Contract 1190 to the Competitive Product List and Notice of Filing Materials Under Seal; Filing Acceptance Date: December 20, 2024; Filing Authority: 39 U.S.C. 3642, 39 CFR 3035.105, and 39 CFR 3041.310; Public Representative: Christopher Mohr; Comments Due: January 2, 2025.

32. Docket No(s).: MC2025-986 and K2025-985; Filing Title: USPS Request to Add Priority Mail Express, Priority Mail & USPS Ground Advantage Contract 1191 to the Competitive Product List and Notice of Filing Materials Under Seal; Filing Acceptance Date: December 20, 2024; Filing Authority: 39 U.S.C. 3642, 39 CFR 3035.105, and 39 CFR 3041.310; Public Representative: Christopher Mohr; Comments Due: January 2, 2025.

33. Docket No(s).: MC2025-987 and K2025-986; Filing Title: USPS Request to Add Priority Mail Express, Priority Mail & USPS Ground Advantage Contract 1192 to the Competitive Product List and Notice of Filing Materials Under Seal; Filing Acceptance Date: December 20, 2024; Filing Authority: 39 U.S.C. 3642, 39 CFR 3035.105, and 39 CFR 3041.310; Public Representative: Christopher Mohr; Comments Due: January 2, 2025.

34. Docket No(s).: MC2025-988 and K2025-987; Filing Title: USPS Request to Add Priority Mail Express, Priority Mail & USPS Ground Advantage Contract 1193 to the Competitive Product List and Notice of Filing Materials Under Seal; Filing Acceptance Date: December 20, 2024; Filing Authority: 39 U.S.C. 3642, 39 CFR 3035.105, and 39 CFR 3041.310; Public Representative: Maxine Bradley; Comments Due: January 2, 2025.

35. Docket No(s).: MC2025-989 and K2025-988; Filing Title: USPS Request to Add Priority Mail & USPS Ground Advantage 568 to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

36. Docket No(s).: MC2025-990 and K2025-989; Filing Title: USPS Request to Add USPS Request to Add Priority Mail & USPS Ground Advantage 569 to the Competitive Product List and Notice of Filing Materials Under Seal to the Competitive Product List and Notice of Filing Materials Under Seal; Filing Acceptance Date: December 20, 2024; Filing Authority: 39 U.S.C. 3642, 39 CFR 3035.105, and 39 CFR 3041.310; Public Representative: Kenneth Moeller; Comments Due: January 2, 2025.

III. Summary Proceeding(s)

None. See Section II for public proceedings.

This Notice will be published in the Federal Register.

Erica A. Barker,
Secretary.

[FR Doc. 2024-31374 Filed 12-30-24; 8:45 am]

BILLING CODE 7710-FW-P